DEPARTMENT OF COMMERCE

National Oceanic and Atmospheric Administration

RIN 0648-XC519

Endangered Species; File No. 17405

AGENCY: National Marine Fisheries Service (NMFS), National Oceanic and Atmospheric Administration (NOAA), Commerce.

ACTION: Notice; Issuance of permit.

SUMMARY: Notice is hereby given that David Lapota, Ph.D., Department of the Navy, SPAWAR Systems Center, Pacific, Environmental Sciences Division, 53475 Strothe Road, San Diego, CA 92152, has been issued a permit to take black abalone (Haliotis cracherodii) for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Rosa L. González or Jennifer Skidmore, (301) 427-8401.

SUPPLEMENTARY INFORMATION: On March 4, 2013, notice was published in the Federal Register (78 FR 14078) that a request for a scientific research permit to take black abalone had been submitted by the above-named individual. The requested permit has been issued under the authority of the Endangered Species Act of 1973, as amended (ESA; 16 U.S.C. 1531 et seq.) and the regulations governing the taking, importing, and exporting of endangered and threatened species (50 CFR parts 222-226).

Permit No. 17405 authorizes scientific research activities to overcome key barriers to captive propagation of the endangered black abalone, specifically, identifying limitations to their reproduction (focusing on successful spawning, increased fertilization, increased settlement, and recruitment). No black abalone will be taken from the wild, nor will animals be returned to the wild under the permit. All animals will come from existing captive populations. The permit is valid for five years and expires on August 8, 2018.

Issuance of this permit, as required by the ESA, was based on a finding that such permit (1) was applied for in good faith, (2) will not operate to the disadvantage of such endangered or threatened species, and (3) is consistent with the purposes and policies set forth in section 2 of the ESA.

Dated: August 14, 2013.
P. Michael Payne,
Chief, Permits and Conservation Division, Office of Protected Resources, National Marine Fisheries Service.

[FR Doc. 2013-20119 Filed 8-16-13; 8:45 am]

BILLING CODE 3510-22-P